Title 3—

The President

Proclamation 9672 of November 7, 2017

Veterans Day, 2017

By the President of the United States of America

A Proclamation

Our veterans represent the very best of America. They have bravely answered the call to serve in the finest military force in the world, and they have earned the dignity that comes with wearing the uniform and defending our great flag. On Veterans Day, we honor all Americans who have served in the Army, Navy, Air Force, Marines, and Coast Guard, both in times of war and peace. For nearly 100 years, since the end of World War I, Veterans Day has given us a time to pay due respect to our veterans, who have passed the torch of liberty from one generation to the next.

Part of paying our respect means recommitting to our Nation's sacred obligation to care for those who have protected the freedom we often take for granted. I have pledged to provide our service members with the best equipment, resources, and support in the world—support that must continue after they return to civilian life as veterans. This is why veterans' healthcare is a top priority for my Administration. I have signed legislation that improves accountability at the Department of Veterans Affairs (VA) and provides additional funding for the Veterans Choice Program, which ensures veterans continue to receive care in their communities from providers they trust. I have also signed legislation to give veterans GI Bill education benefits for their lifetime, and legislation to fix the VA appeals process, to ensure veterans can access the resources they are rightly due.

Additionally, this Veterans Day, more than 50 years from the beginning of the Vietnam War, I will be in Da Nang, Vietnam, with leaders of the Asia-Pacific Economic Cooperation forum. As we discuss ways to improve economic relationships between the United States and Asia in a country where Americans and Vietnamese once fought a war, we are compelled to recall and recognize the sacrifices of the more than 8 million Vietnam veterans who served here, beginning with those who arrived in the first American troop deployment in 1965 and ending with those who fought through the cease-fire of 1973. These men and women dedicated themselves, during one of the most challenging periods in our history, to promoting freedom across the globe. Many spent years away from their loved ones as they endured the burdens of battle and some experienced profound pain and anguish as their fellow warriors, more than 50,000 of them, lost their lives. Some of these heroes have yet to return home, as 1,253 of America's sons and daughters still remain missing. Along with our Vietnamese partners, however, we continue to work to account for them and to bring them home to American soil. We will not rest until that work is done.

With respect for, and in recognition of, the contributions our service members have made to the cause of peace and freedom around the world, the Congress has provided (5 U.S.C. 6103(a)) that November 11 of each year shall be set aside as a legal public holiday to honor our Nation's veterans. As Commander in Chief of our heroic Armed Forces, I humbly thank our veterans and their families as we remember and honor their service and their sacrifice.

NOW, THEREFORE, I, DONALD J. TRUMP, President of the United States of America, do hereby proclaim November 11, 2017, as Veterans Day. I encourage all Americans to recognize the fortitude and sacrifice of our veterans through public ceremonies and private thoughts and prayers. I call upon Federal, State, and local officials to display the flag of the United States and to participate in patriotic activities in their communities. I call on all Americans, including civic and fraternal organizations, places of worship, schools, and communities to support this day with commemorative expressions and programs.

IN WITNESS WHEREOF, I have hereunto set my hand this seventh day of November, in the year of our Lord two thousand seventeen, and of the Independence of the United States of America the two hundred and forty-second.

[FR Doc. 2017-24689

Filed 11-9-17; 11:15 am]

Billing code 3295-F8-P